DEPARTMENT OF JUSTICE

Notice of Lodging of Consent Decree Under the Comprehensive Environmental Response, Compensation, and Liability Act (CERCLA)

Notice is hereby given that on November 19, 2010, a proposed Consent Decree in The United States of America, the Coeur d'Alene Tribe, and the State of Idaho v. Atlantic Richfield Company, Civ. No. 10-578-EJL, was lodged with the United States District Court for the District of Idaho.

Plaintiffs the United States, the Tribe and the State filed a complaint concurrently with the Consent Decree alleging that Defendant Atlantic Richfield Company is liable pursuant to Section 107(a)(2) of CERCLA for response costs incurred and to be incurred by the United States and the State and for natural resources damages in connection with releases of hazardous substances at or from Operable Unit 3 of the Bunker Hill Mining and Metallurgical Complex Superfund Site (Bunker Hill Site) in northern Idaho. The Complaint alleges Defendant, and its predecessor The Anaconda Company, owned and/or operated mining or milling related facilities within Operable Unit 3. The proposed Consent Decree grants the Defendant a covenant not to sue for response costs, as well as natural resource damages, in connection with the Bunker Hill Site. The United States Environmental Protection Agency incurred response costs, and the United States Department of the Interior, the United States Department of Agriculture, the Tribe and the State are trustees of injured natural resources. The settlement requires the Defendant to pay a total of $6.75 million ($5,062,500 will be paid to EPA for response costs and $1,687,500 will be paid to the natural resource trustees for natural resources damages).

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to U.S., et al. v. Atlantic Richfield Company., Civ No. 10-578-EJL and D.J. Ref. No. 90-11-3-128/9.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the United States Treasury or, if by e-mail or fax, forward a check in that amount to the Consent Decree Library at the stated address.

Maureen Katz,
Assistant Chief, Environmental Enforcement Section, Environment and Natural Resources Division.

[FR Doc. 2010-29716 Filed 11-24-10; 8:45 am]

BILLING CODE 4410-15-P